DEPARTMENT OF HOUSING AND URBAN DEVELOPMENT

[Docket No. FR-5828-N-09]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202)-720-8873; Air Force: Mr. Robert E. Moriarty, P.E., AFCEC/CI, 2261 Hughes Avenue, Ste. 155, JBSA Lackland, TX 78236-9853; NASA: Mr. Frank T. Bellinger, Facilities Engineering Division, National Aeronautics & Space Administration, Code JX, Washington, DC 20546, (202)-358-1124; (These are not toll-free numbers).

Dated: February 19, 2015.
Brian P. Fitzmaurice,
Director, Division of Community Assistance, Office of Special Needs Assistance Programs.

TITLE V, FEDERAL SURPLUS PROPERTY PROGRAM FEDERAL REGISTER REPORT FOR 02/27/2015

Suitable/Available Properties

Building

Wyoming

Jackson V.I.C.

644 N. Cache St.

Jackson WY 83001

Landholding Agency: Agriculture

Property Number: 15201510011

Status: Excess

Directions: TN825007, RPUID-B1252.002791

Comments: off-site removal only; 48+ yrs. old; 1,472 sq. ft.; office; contamination ; wood stretchered; contact Agriculture for more inf.

Bridger-Teton Supervisor's Office

340 N Cache St.

Jackson WY 83001

Landholding Agency: Agriculture

Property Number: 15201510012

Status: Excess

Comments: off-site removal only; 50+ yrs. old; 10,080 sq. ft.; office; contamination; wood stretchered; contact Agriculture for more inf.

Unsuitable Properties

Building

Alabama

4660 Boiler House (MSFC)

Off of Dodd Road

Marshall Space Flight AL 35812

Landholding Agency: NASA

Property Number: 71201510006

Status: Excess

Comments: public access denied & no alternative method to gain access w/out compromising national security.

Reasons: Secured Area

4675 Boiler House (MSFC)

West Test Area on Lem Road

Marshal Space Flight AL 35812

Landholding Agency: NASA

Property Number: 71201510007

Status: Excess

Comments: public access denied & no alternative method to gain access w/out compromising national security.

Reasons: Secured Area

Indiana

Building 00796

3005 Ferguson Road

Ft. Wayne IN 46809

Landholding Agency: Air Force

Property Number: 18201510008

Status: Unutilized

Comments: public access denied & no alternative method to gain access w/out compromising national security.

Reasons: Secured Area

Montana

Loundberg Cabin Infra #1100

14 Miles East of Townsend off Hwy. 12

Townsend Banger District MT

Landholding Agency: Agriculture

Property Number: 15201510009

Status: Excess

Comments: property located in a floodway that has not been contained or corrected.

Reasons: Floodway

Lundberg Pump house Infra #1101

14 Miles E. of Townsend off Hwy. 12

Townsend Ranger District MT

Landholding Agency: Agriculture

Property Number: 15201510010

Status: Excess

Comments: property located in floodway which has not been corrected or contained.

Reasons: Floodway

New York

Building 620

2245 McGuire Street

Niagara Falls NY 14304

Landholding Agency: Air Force

Property Number: 18201510007

Status: Underutilized

Comments: public access denied & no alternative method to gain access w/out compromising national security.

Reasons: Secured Area

Ohio

Reactor Office Bldg. 1142

6100 Columbus Ave.

Sandusky OH 44870

Landholding Agency: NASA

Property Number: 71201510009

Status: Unutilized

Comments: public access denied & no alternative method to gain access w/out compromising national security.

Reasons: Secured Area

EPA Bldg. 7145

6100 Columbus Ave.

Sandusky OH 44870

Landholding Agency: NASA

Property Number: 71201510013

Status: Unutilized

Directions: 7145

Comments: public access denied & no alternative method to gain access w/out compromising national security.

Reasons: Secured Area

Warehouse 9201

6100 Columbus Ave.

Sandusky OH 44870

Landholding Agency: NASA

Property Number: 71201510014

Status: Unutilized

Comments: public access denied & no alternative method to gain access w/out compromising national security.

Reasons: Secured Area

Warehouse 9202

6100 Columbus Ave.

Sandusky OH 44870

Landholding Agency: NASA

Property Number: 71201510015

Status: Unutilized

Comments: public access denied & no alternative method to gain access w/out compromising national security.

Reasons: Secured Area

Reactor Security Bldg. 1191

6100 Columbus Ave.

Sandusky OH 44870

Landholding Agency: NASA

Property Number: 71201510016

Status: Unutilized

Comments: public access denied & no alternative method to gain access w/out compromising national security.

Reasons: Secured Area

Texas

72/1047/142 Mission Simulation

Dev. Facility Building 35

2101 NASA Pkwy/Johnson Space Ctr.

Houston TX 77058

Landholding Agency: NASA

Property Number: 71201510008

Status: Unutilized

Comments: public access denied & no alternative method to gain access w/out compromising national security.

Reasons: Secured Area

72/1047/68 Storage Bldg. #1

Bldg. 262A

Johnson Space Ctr.; 2101 NASA Pkwy

Houston TX 77058

Landholding Agency: NASA

Property Number: 71201510010

Status: Unutilized

Comments: public access denied & no alternative method to gain access w/out compromising national security.

Reasons: Secured Area

72/1047/169 Storage Bldg.

No. 2, Bldg. 262B

Johnson Space Ctr. 2101 NASA Pkwy

Houston TX 77058

Landholding Agency: NASA

Property Number: 71201510011

Status: Unutilized

Comments: public access denied & no alternative method to gain access w/out compromising national security.

Reasons: Secured Area

Land

Texas

72/1047/138 Storage Bldg. #3,

Bldg. 264

Johnson Space Ctr., 2101 NASA Pkwy

Houston TX 77058

Landholding Agency: NASA

Property Number: 71201510012

Status: Unutilized

Comments: public access denied & no alternative method to gain access w/out compromising national security.

Reasons: Secured Area

[FR Doc. 2015-04031 Filed 2-26-15; 8:45 am]

BILLING CODE 4210-67-P